DEPARTMENT OF ENERGY

Federal Energy Regulatory Commission

Combined Notice of Filings #1

Take notice that the Commission received the following exempt wholesale generator filings:

Docket Numbers: EG24-19-000.

Applicants: Poblano Energy Storage, LLC.

Description: Poblano Energy Storage, LLC submits Notice of Self-Certification of Exempt Wholesale Generator Status.

Filed Date: 10/26/23.

Accession Number: 20231026-5131.

Comment Date: 5 p.m. ET 11/16/23.

Docket Numbers: EG24-20-000

Applicants: Century Oak wind Project, LLC

Description: Century Oak Wind Project, LLC submits Notice of Self-Certification of Exempt Wholesale Generator Status.

Filed Date: 10/26/23

Accession Number: 20231026-5134

Comment Date: 5 p.m. ET 11/16/23

Take notice that the Commission received the following electric rate filings:

Docket Numbers: ER18-730-003.

Applicants: Linden VFT, LLC.

Description: Amendment to Transmission Scheduling Rights Purchase Agreement and Request for Confidential Treatment of Linden VFT, LLC.

Filed Date: 10/18/23.

Accession Number: 20231018-5179.

Comment Date: 5 p.m. ET 11/8/23.

Docket Numbers: ER21-964-001.

Applicants: Microsoft Energy LLC.

Description: Notice of Change in Status of Microsoft Energy LLC, et al.

Filed Date: 10/24/23.

Accession Number: 20231024-5156.

Comment Date: 5 p.m. ET 11/14/23.

Docket Numbers: ER23-2532-001.

Applicants: Southwest Power Pool, Inc.

Description: Tariff Amendment: Deficiency Response—Lea County's Revisions to Formula to be effective 10/1/2023.

Filed Date: 10/26/23.

Accession Number: 20231026-5049.

Comment Date: 5 p.m. ET 11/16/23.

Docket Numbers: ER23-2699-000; ER23-2701-000.

Applicants: MRP Rocky Road LLC, MRP Elgin LLC.

Description: MRP Elgin LLC, et. al. submits Request for Expedited Treatment re the 08/24/2023, as supplemented on 10/18/2023, filing of Applications for Market-Based Rate Authorization.

Filed Date: 10/25/23.

Accession Number: 20231025-5148.

Comment Date: 5 p.m. ET 11/6/23.

Docket Numbers: ER23-2699-000; ER23-2701-000.

Applicants: MRP Rocky Road LLC, MRP Elgin LLC.

Description: Supplement to August 24, 2023 MRP Elgin LLC, et al. tariff filing.

Filed Date: 10/18/23.

Accession Number: 20231018-5175.

Comment Date: 5 p.m. ET 11/6/23.

Docket Numbers: ER23-2759-000.

Applicants: Mammoth North LLC.

Description: Amendment to September 1, 2023, Mammoth North LLC tariff filing.

Filed Date: 10/24/23.

Accession Number: 20231024-5154.

Comment Date: 5 p.m. ET 11/3/23.

Docket Numbers: ER23-2886-000.

Applicants: South Energy Investments, LLC.

Description: Supplement to September 18, 2023, South Energy Investments, LLC tariff filing.

Filed Date: 10/24/23.

Accession Number: 20231024-5153.

Comment Date: 5 p.m. ET 11/7/23.

Docket Numbers: ER24-207-000.

Applicants: Hunter Solar, LLC.

Description: 205(d) Rate Filing: Revised Market-Based Rate Tariff Filing to be effective 12/26/2023.

Filed Date: 10/26/23.

Accession Number: 20231026-5005.

Comment Date: 5 p.m. ET 11/16/23.

Docket Numbers: ER24-208-000.

Applicants: Steel Solar, LLC.

Description: 205(d) Rate Filing: Revised Market-Based Rate Tariff Filing to be effective 12/26/2023.

Filed Date: 10/26/23.

Accession Number: 20231026-5006.

Comment Date: 5 p.m. ET 11/16/23.

Docket Numbers: ER24-209-000.

Applicants: Southwest Power Pool, Inc.

Description: 205(d) Rate Filing: 1166R41 Oklahoma Municipal Power Authority NITSA and NOA to be effective 10/1/2023.

Filed Date: 10/26/23.

Accession Number: 20231026-5024

Comment Date: 5 p.m. ET 11/16/23.

Docket Numbers: ER24-210-000

Applicants: Arche Energy Project, LLC

Description: 205(d) Rate Filing: Revised Market-Based Rate Tariff Filing to be effective 12/26/2023.

Filed Date: 10/26/23

Accession Number: 20231026-5031

Comment Date: 5 p.m. ET 11/16/23

Docket Numbers: ER24-211-000.

Applicants: Southwest Power Pool, Inc.

Description: 205(d) Rate Filing: 1630R12 The Empire District Electric Company NITSA and NOA to be effective 10/1/2023.

Filed Date: 10/26/23.

Accession Number: 20231026-5034.

Comment Date: 5 p.m. ET 11/16/23.

Docket Numbers: ER24-212-000.

Applicants: San Diego Gas & Electric Company.

Description: 205(d) Rate Filing: 2024 TRBAA Update to be effective 1/1/2024.

Filed Date: 10/26/23.

Accession Number: 20231026-5054.

Comment Date: 5 p.m. ET 11/16/23.

Docket Numbers: ER24-213-000.

Applicants: Puget Sound Energy, Inc.

Description: 205(d) Rate Filing: Amendatory Agreement No. 2 to the PNW AC Intertie Capacity Ownership Agreement, to be effective 10/1/2023.

Filed Date: 10/26/23.

Accession Number: 20231026-5112.

Comment Date: 5 p.m. ET 11/16/23.

Docket Numbers: ER24-214-000.

Applicants: Puget Sound Energy, Inc.

Description: 205(d) Rate Filing: Amendment No. 1 to the Westside Northern Intertie and Area Transmission Agmt to be effective 10/1/2023.

Filed Date: 10/26/23.

Accession Number: 20231026-5116.

Comment Date: 5 p.m. ET 11/16/2.3

Docket Numbers: ER24-215-000.

Applicants: California Independent System Operator Corporation.

Description: 205(d) Rate Filing: 2023-10-26 Amendment to Nodal Pricing Model Agreement—Pacificorp to be effective 1/1/2024.

Filed Date: 10/26/23.

Accession Number: 20231026-5124.

Comment Date: 5 p.m. ET 11/16/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: October 26, 2023.
Debbie-Anne A. Reese,
Deputy Secretary.

[FR Doc. 2023-24092 Filed 10-31-23; 8:45 am]

BILLING CODE 6717-01-P